ENVIRONMENTAL PROTECTION AGENCY

[ER-FRL-9044-5]

Environmental Impact Statements; Notice of Availability

Responsible Agency: Office of Federal Activities, General Information 202-564-5632 or https://www.epa.gov/nepa/.

Weekly receipt of Environmental Impact Statements Filed 04/15/2019 Through 04/19/2019 Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190063, Draft, USFWS, TX, Authorization of Incidental Take and Implementation of the LCRA Transmission Services Corporation Habitat Conservation Plan, Comment Period Ends: 06/10/2019, Contact: Delfinia Montano 505-248-6401.

EIS No. 20190064, Final Supplement, BLM, CA, West Mojave Route Network Project Final Supplemental Environmental Impact Statement Land Use Plan Amendment, Review Period Ends: 05/28/2019, Contact: Matthew Toedtli 760-252-6026.

EIS No. 20190065, Final, FERC, MS, Gulf LNG Liquefaction Project, Review Period Ends: 05/28/2019, Contact: Office of External Affairs 866-208-3372.

EIS No. 20190066, Final, BLM, AZ, San Pedro Riparian National Conservation Area Proposed Resource Management Plan, Review Period Ends: 05/28/2019, Contact: Amy McGowan 520-258-7231.

EIS No. 20190067, Draft Supplement, BLM, WY, Converse County Oil and Gas Project Supplemental DEIS, Comment Period Ends: 07/25/2019, Contact: Mike Robinson 307-261-7520.

EIS No. 20190068, Draft Supplement, BLM, CA, Bakersfield Field Office Hydraulic Fracturing DSEIS, Comment Period Ends: 06/10/2019, Contact: Carly Summers 661-391-6000.

EIS No. 20190069, Final, FERC, TX, Annova LNG Brownsville Project, Review Period Ends: 05/28/2019, Contact: Office of External Affairs 866-208-3372.

EIS No. 20190070, Final, USFS, ID, Crow Creek Pipeline Project, Review Period Ends: 05/28/2019, Contact: Doug Herzog 208-557-5763.

EIS No. 20190071, Draft, USFWS, HI, Draft Programmatic Environmental Impact Statement Addressing the Issuance of Incidental Take Permits for Four Wind Energy Projects in Hawai'i, Comment Period Ends: 06/10/2019, Contact: Michelle Bogardus 808-792-9473.

Amended Notice

EIS No. 20190038, Draft Supplement, USN, WA, Northwest Training and Testing Activities Draft Supplemental Environmental Impact Statement/Overseas Environmental Impact Statement, Comment Period Ends: 06/12/2019, Contact: Jacqueline Queen 360-257-3852. Revision to FR Notice Published 03/29/2019; Extending the Comment Period from 05/28/2019 to 06/12/2019.

Dated: April 22, 2019.
Robert Tomiak,
Director, Office of Federal Activities.

[FR Doc. 2019-08379 Filed 4-25-19; 8:45 am]

BILLING CODE 6560-50-P